NATIONAL SCIENCE FOUNDATION (NSF)

National Science Board

Sunshine Act Meeting Notice

This meeting, previously noticed on November 16, 2012, has been Cancelled.

The National Science Board's ad hoc Committee on Honorary Awards, pursuant to NSF regulations (45 CFR part 614), the National Science Foundation Act, as amended (42 U.S.C. 1862n-5), and the Government in the Sunshine Act (5 U.S.C. 552b), hereby gives notice in regard to the scheduling of a meeting for the transaction of National Science Board business, as follows:

DATE AND TIME: Tuesday, November 20, 2012, at 1:30 p.m. EST.

SUBJECT MATTER: Discussion of candidates for the 2013 Vannevar Bush Award and 2013 National Science Board Public Service Award.

STATUS: Closed.

This meeting will be held by teleconference originating at the National Science Board Office, National Science Foundation, 4201 Wilson Blvd., Arlington, VA 22230.

Please refer to the National Science Board Web site (www.nsf.gov/nsb) for information or schedule updates, or contact: Ann Ferrante, National Science Foundation, 4201 Wilson Blvd., Arlington, VA 22230. Telephone: (703) 292-7000.

Ann Bushmiller,
NSB Senior Legal Counsel.

[FR Doc. 2012-28439 Filed 11-19-12; 4:15 pm]

BILLING CODE 7555-01-P